DEPARTMENT OF TRANSPORTATION

Federal Aviation Administration

Notice of Intent To Rule on Application To Impose and Use the Revenue From a Passenger Facility Charge (PFC) at Columbus Metropolitan Airport, Columbus, Georgia

AGENCY: Federal Aviation Administration (FAA), DOT.

ACTION: Notice of intent to rule on application.

SUMMARY: The FAA proposes to rule and invites public comment on the application to impose and use the revenue from a PFC at Columbus Metropolitan Airport under the provisions of the Aviation Safety and Capacity Expansion Act of 1990 (Title IX of the Omnibus Budget Reconciliation Act of 1990) (Public Law 101-508) and Part 158 of the Federal Aviation Regulations (14 CFR Part 158).

DATES: Comments must be received on or before March 27, 2000.

ADDRESSES: Comments on this application may be mailed or delivered in triplicate to the FAA at the following address: Atlanta Airports District Office, 1701 Columbia Avenue, Campus Building, Suite 2-260, College Park, Georgia 30337-2747.

In addition, one copy of any comments submitted to the FAA must be mailed or delivered to Mr. Mark Oropeza, Airport Director, of the Columbus Metropolitan Airport at the following address: Mr. Mark Oropeza, Airport Director, Columbus Metropolitan Airport, 3250 West Britt David Road, Columbus, GA 31909-5399.

Air carriers and foreign air carriers may submit copies of written comments previously provided to the Columbus Airport Commission under section 158.23 of part 158.

FOR FURTHER INFORMATION CONTACT: Daniel Gaetan, Program Manager, Atlanta Airports District Office, 1701 Columbia Avenue, Campus Building, Suite 2-260, College Park, Georgia 30337-2747; telephone number (404) 305-7146. The application may be reviewed in person at this same location.

SUPPLEMENTARY INFORMATION: The FAA proposes to rule and invites public comment on the application to impose and use the revenue from a PFC at Columbus Metropolitan Airport under the provisions of the Aviation Safety and Capacity Expansion Act of 1990 (Title IX of the Omnibus Budget Reconciliation Act of 1990) (Public Law 101-508) and part 158 of the Federal Aviation Regulations (14 CFR part 158).

On January 24, 2000, the FAA determined that the application to impose and use the revenue from a PFC submitted by Columbus Airport Commission was substantially complete within the requirements of section 158.25 of Part 158. The FAA will approve or disapprove the application, in whole or in part, no later than May 12, 2000.

The following is a brief overview of the application.

PFC Application No.: 99-03-C-00-CSG.

Level of the proposed PFC: $3.00.

Proposed charge effective date: August 1, 2000.

Proposed charge expiration date: November 1, 2000.

Total estimated PFC revenue: $1,223,986.

Brief description of proposed project(s):

(1) North Terminal Access Road Rehabilitation;

(2) Obstruction approach clearing for Runway Ends 5, 23, 12, and 30;

(3) Passenger lift device;

(4) Taxiway “D” Rehabilitation;

(5) Runway 5/23 Rehabilitation;

(6) Runways 12/30 & 5/23 renumbering and signage;

(7) Aircraft Rescue & Fire Fighting Vehicle;

(8) Update Airport Master Plan; Taxiway “C” Relocation.

Class or classes of air carriers, which the public agency has requested not be required to collect PFCs: All classes of carriers that enplaned less that 1% of the total number of passengers enplaned annually at the airport.

Any person may inspect the application in person at the FAA office listed above under FOR FURTHER INFORMATION CONTACT.

In addition, any person may, upon request, inspect the application, notice and other documents germane to the application in person at the Columbus Metropolitan Airport.

Issued in Atlanta, Georgia on January 24, 2000.
Scott L. Seritt,
Manager, Atlanta Airports District Office, Southern Region.

[FR Doc. 00-4490 Filed 2-24-00; 8:45 am]

BILLING CODE 4910-13-M